DEPARTMENT OF ENERGY

Federal Energy Regulatory Commission

[Project No. 10078-053]

Eau Galle Renewable Energy Company, Eau Galle Hydro, LLC; Notice of Transfer of Exemption

1. By letter filed October 12, 2012, Eau Galle Renewable Energy Company informed the Commission that its exemption from licensing for the Eau Galle Hydroelectric Project, FERC No. 10078, originally issued March 10, 1987,¹ and transferred to Eau Galle Renewable Energy Company by letter.² The project is located on the Eau Galle River in Dunn County, Wisconsin. The transfer of an exemption does not require Commission approval.

¹ 38 FERC ¶ 62,225, Order Granting Exemption From Licensing (5 MW or Less) And Dismissing Preliminary Permit Application With Prejudice.

² Letter notifying the Commission of the Transfer of Exemption for Project No. 10078, filed July 13, 2000.

2. Mr. Jason Kreuscher, Eau Galle Hydro, LLC, P.O. Box 264, 100 S. State Street, Neshkoro, WI 54960 is now the exemptee of the Eau Galle Hydroelectric Project, FERC No. 10078.

Dated: December 4, 2012.
Kimberly D. Bose,
Secretary.

[FR Doc. 2012-29795 Filed 12-10-12; 8:45 am]

BILLING CODE 6717-01-P